DEPARTMENT OF JUSTICE

Antitrust Division

Notice Pursuant to the National Cooperative Research and Production Act of 1993—Telemanagement Forum (TM Forum)

Notice is hereby given that, on April 13, 2023, pursuant to Section 6(a) of the National Cooperative Research and Production Act of 1993, 15 U.S.C. 4301 et seq. (“the Act”), TM Forum, a New Jersey Non-Profit Corporation (“the Forum”) filed written notifications simultaneously with the Attorney General and the Federal Trade Commission disclosing changes in its membership. The notifications were filed for the purpose of extending the Act's provisions limiting the recovery of antitrust plaintiffs to actual damages under specified circumstances. Specifically, Nart Bilisim Hizmetleri Ltd. Sti., Ankara, TURKEY; WolfTech, Eindhoven, NETHERLANDS; avataa GmbH, Berlin, GERMANY; Upp Corporation Limited, London, UNITED KINGDOM; VANTIQ, Walnut Creek, CA; Splunk, San Francisco, CA; RoboCorp, San Francisco, CA; Blautech, CORAL GABLES, FL; Oneweb, London, UNITED KINGDOM; Tupl, Bellevue, WA; WindUp Software, Tashkent, UZBEKISTAN; Iquall Networks Inc, Miami, FL; Iterato, Vilnius, LITHUANIA; Everywhere Wireless LLC DBA Zentro, Chicago, IL; Barnet Communication Ltd., Tel-Aviv, ISRAEL; University of Strathclyde, Glasgow, UNITED KINGDOM; Bahçesehir University, Faculty of Engineering and Natural Sciences, Besiktas, TURKEY; Tsinghua University, Beijing, PEOPLE'S REPUBLIC OF CHINA; GlobalLogic, San Jose, CA; Evergent Technologies, Inc., Sunnyvale, CA; Lumen, Monroe, LA; GTS TechLabs, Singapore, SINGAPORE; Skyvera, Austin, TX; Expresso Telecom Group, Dakar, SENEGAL; Sudatel Telecom Group co. Ltd., Khartoum, SUDAN; and Xidian University, Xi'an, PEOPLE'S REPUBLIC OF CHINA, have been added as members of the Forum.

Also, Bartr Technologies Limited, Birmingham, UNITED KINGDOM; Beesion Technologies, Fort Lauderdale, FL; Birmingham City University, Birmingham, UNITED KINGDOM; Brytlyt Limited, Maidstone, UNITED KINGDOM; Carnegie Mellon University, Moffett Field, CA; Cross Network Intelligence s.r.o, Prague 1, CZECH REPUBLIC; CanGo Networks Private Ltd, Chennai, INDIA; Datapply.ai, Nicosia, CYPRUS; DFG CONSULTING, d.o.o., Ljubljana, SLOVENIA; GG Media Resources Ltd, Corsham, UNITED KINGDOM; MyRepublic Group Limited, Singapore, SINGAPORE; Net AI Tech Ltd, Edinburgh, UNITED KINGDOM; Netcomp Peru, Lima, PERU; Networking Technology Laboratory (BUTE), Budapest, HUNGARY; PCCW Solutions Limited, Kowloon, HONG KONG-CHINA; Salamanca Solutions International, Cochabamba, BOLIVIA; Sarathi Softech Pvt. Ltd., Pune, INDIA; Software AG (UK) Ltd, Derby, UNITED KINGDOM; Sterlite Technologies Limited, Ahmedabad, INDIA; STS Arabia, Amman, JORDAN; Swim, Campbell, CA; Trextel, Duluth, GA; University of Szeged, Szeged, HUNGARY; VizuaMatix Private Limited, Rajagiriya, SRI LANKA; and Wavemaker, Mountain View, CA, have withdrawn as members of the Forum.

Additionally, Liberty Networks Germany GmbH has changed its name to HelloFiber GmbH, Koln, GERMANY; Covalense Digital Solutions Pvt Ltd, to COVALENSE DIGITAL SOLUTIONS LLC, Karnataka, INDIA; Google, to Google Cloud, Mountain View, CA; Network Access Associates Limited, to Oneweb, London, UNITED KINGDOM; and NETCOMPANY-INTRASOFT S.A., to NETCOMPANY-INTRASOFT S.A., Luxembourg, LUXEMBOURG.

No other changes have been made to either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on January 18, 2023. A notice was published in the Federal Register pursuant to Section 6(b) of the Act on March 17, 2023 (88 FR 16459).

Suzanne Morris,
Deputy Director Civil Enforcement Operations, Antitrust Division.

[FR Doc. 2023-12548 Filed 6-12-23; 8:45 am]

BILLING CODE 4410-11-P